NUCLEAR REGULATORY COMMISSION

Advisory Committee on Nuclear Waste; Notice of Meeting

The Advisory Committee on Nuclear Waste (ACNW) will hold its 166th meeting on December 13-15, 2005, Room T-2B3, Two White Flint North, 11545 Rockville Pike, Rockville, Maryland.

The schedule for this meeting is as follows:

Tuesday, December 13, 2005

8:30 a.m.-8:45 a.m.: Opening Statement (Open)—The ACNW Chairman will make opening remarks regarding the conduct of today's sessions.

8:45 a.m.-9:45 a.m.: Combined Office of Nuclear Materials Safety and Safeguards (NMSS) and Division Directors Briefing (Open)—The NMSS Office and Division Directors will brief the Committee on recent activities of interest within their respective programs.

9:45 a.m.-11:15 a.m.: U.S. Nuclear Regulatory Commission (NRC's) Plans for the Implementation of a Dose Standard After 10,000 Years (Open)—NRC is proposing to amend its regulations at 10 CFR part 63 that govern the disposal of high-level radioactive wastes in a proposed geologic repository at Yucca Mountain. The proposed rule would implement EPA's proposed standards for doses that could occur after 10,000 years but within the period of geologic stability. The Committee will continue its discussions with representatives from NRC's Office of Nuclear Materials Safety and Safeguards on those proposed revisions. The NRC staff briefing will include the topics of radionuclide inventory, effects of climate change, and dosimetry.

11:30 a.m.-12:30 p.m.: Reasonableness of NRC Infiltration Assumption in the Proposed Part 63 (Open)—NRC's proposed rule change at Part 63 specifies a value to be used to represent climate change after 10,000 years, as called for by EPA. The Committee will hear presentations from and hold discussions with knowledgeable subject matter experts on the reasonableness of NRC's proposed infiltration assumption.

1:30 p.m.-4:15 p.m.: White Paper on Low-Level Radioactive Waste (Open)—The Committee will discuss a proposed white paper on low-level radioactive waste (LLW). NRC staff and stakeholders will provide perspectives on the subject.

4:30 p.m.-5:30 p.m.: Preparation of ACNW Reports/Letters (Open)—The Committee will discuss proposed ACNW reports on matters considered during this and/or previous meetings.

Wednesday, December 14, 2005

8:30 a.m.-8:45 a.m.: Opening Statement (Open)—The ACNW Chairman will make opening remarks regarding the conduct of today's sessions.

8:45 a.m.-10:45 a.m.: Preparation of ACNW Reports/Letters (Open)—The Committee will discuss proposed ACNW reports on matters considered during this and/or previous meetings.

11 a.m.-12 noon.: Generalized Composite Modeling (Open)—The Committee will hear presentations by and hold discussions with representatives of the United States Geological Survey and the NRC Office of Nuclear Regulatory Research regarding demonstrations of the generalized composite approach to the modeling of reactive transport phenomena.

1:30 p.m.-3:30 p.m.: Preparation for Commission Briefing (Open)—The Committee will review the final presentations in preparation for the Commission briefing on January 11, 2006.

3:45 p.m.-5:30 p.m.: Preparation of ACNW Reports/Letters, Continued (Open).

Thursday, December 15, 2005

10 a.m.-10:15 a.m.: Opening Remarks by the ACNW Chairman (Open)—The ACNW Chairman will make opening remarks regarding the conduct of today's sessions.

10:15 a.m.-11:45 a.m.: Discussion of ACNW Reports/Letters (Open)—The Committee will discuss prepared draft letters and determine whether letters would be written on topics discussed during the meeting.

11:45 a.m.-12:45 p.m.: Miscellaneous (Open)—The Committee will discuss matters related to the conduct of ACNW activities, and specific issues that were not completed during previous meetings, as time and availability of information permit. Discussions may include future committee meetings.

Procedures for the conduct of and participation in ACNW meetings were published in the Federal Register on October 11, 2005 (70 FR 59081). In accordance with these procedures, oral or written statements may be presented by members of the public. Electronic recordings will be permitted only during those portions of the meeting that are open to the public. Persons desiring to make oral statements should notify Ms. Sharon A. Steele, (Telephone 301-415-6805), between 8 a.m. and 4 p.m. e.t., as far in advance as practicable so that appropriate arrangements can be made to schedule the necessary time during the meeting for such statements. Use of still, motion picture, and television cameras during this meeting will be limited to selected portions of the meeting as determined by the ACNW Chairman. Information regarding the time to be set aside for taking pictures may be obtained by contacting the ACNW office prior to the meeting. In view of the possibility that the schedule for ACNW meetings may be adjusted by the Chairman as necessary to facilitate the conduct of the meeting, persons planning to attend should notify Ms. Steele as to their particular needs.

Further information regarding topics to be discussed, whether the meeting has been canceled or rescheduled, the Chairman's ruling on requests for the opportunity to present oral statements and the time allotted, therefore can be obtained by contacting Ms. Steele.

ACNW meeting agenda, meeting transcripts, and letter reports are available through the NRC Public Document Room (PDR) at pdr@nrc.gov, or by calling the PDR at 1-800-397-4209, or from the Publicly Available Records System component of NRC's document system (ADAMS) which is accessible from the NRC Web site at http://www.nrc.gov/reading-rm/adams.html or http://www.nrc.gov/reading-rm/doc-collections/ (ACRS & ACNW Mtg schedules/agendas).

Video Teleconferencing service is available for observing open sessions of ACNW meetings. Those wishing to use this service for observing ACNW meetings should contact Mr. Theron Brown, ACNW Audiovisual Technician (301-415-8066), between 7:30 a.m. and 3:45 p.m. e.t., at least 10 days before the meeting to ensure the availability of this service. Individuals or organizations requesting this service will be responsible for telephone line charges and for providing the equipment and facilities that they use to establish the video teleconferencing link. The availability of video teleconferencing services is not guaranteed.

The ACNW meeting dates for Calendar Year 2006 are provided below:

ACNW meeting No. | Date
167 | January 10-12, 2006. February (No Meeting).
168 | March 22-24, 2006.
169 | April 18-20, 2006.
170 | May 23-25, 2006. June (No Meeting).
171 | July 17-20, 2006. August 2005 (No Meeting).
172 | September 19-21, 2006. October (No Meeting).
173 | November 15-17, 2006.
174 | December 12-14, 2006.

Dated: November 23, 2005.
Andrew L. Bates,
Advisory Committee Management Officer.

[FR Doc. E5-6716 Filed 11-30-05; 8:45 am]

BILLING CODE 7590-01-P